DEPARTMENT OF AGRICULTURE

Food and Nutrition Service

Agency Information Collection Activities: Proposed Collection; Comment Request—Models of SNAP-Ed and Evaluation Study

AGENCY: Food and Nutrition Service (FNS), USDA.

ACTION: Notice.

SUMMARY: In accordance with the Paperwork Reduction Act of 1995, this notice invites the general public and other public agencies to comment on the proposed collection of data for the Models of SNAP-Ed and Evaluation Study. This is a NEW information collection. The goal of Supplemental Nutrition Assistance Program Education (SNAP-Ed) is to improve the likelihood that SNAP participants and eligibles will make healthy choices within a limited budget and choose active lifestyles consistent with the current Dietary Guidelines for Americans and the USDA Food Guidance System. With limited resources, SNAP-Ed nutrition educators attempt to tailor their messages to fit the varying needs of differing populations and evaluate the extent to which their efforts result in positive, voluntary changes in nutrition behaviors.

The Models of SNAP-Ed and Evaluation Study will conduct rigorous, independent evaluations of four SNAP-Ed demonstration projects. Each of the demonstration projects will also conduct an impact evaluation assessment which will be compared to FNS's more rigorous, independent evaluation. The Models of SNAP-Ed and Evaluation Study will provide FNS with sound, independent estimates of the effectiveness of four SNAP-Ed approaches, and will provide SNAP-Ed educators with examples of evaluation designs that are both feasible and scientifically robust.

DATES: Written comments must be submitted on or before July 7, 2009.

ADDRESSES: Comments are invited on (a) Whether the proposed data collection of information is necessary for the proper performance of the functions of the agency, including whether the information has practical utility; (b) the accuracy of the agency's estimate of the burden of the proposed collection of information, including the validity of the methodology and assumptions that were used; (c) ways to enhance the quality, utility, and clarity of the information to be collected; and (d) ways to minimize the burden of the collection of information on those who are to respond, including the use of appropriate automated, electronic, mechanical, or other technological collection techniques or other forms of information technology.

Comments may be sent to: Steven Carlson, Director, Office of Research and Analysis, U.S. Department of Agriculture, Food and Nutrition Service, 3101 Park Center Drive, Room 1014, Alexandria, VA 22302. Comments may also be submitted via fax to the attention of Steven Carlson at 703-305-2576 or via email to Steve.Carslon@fns.usda.gov. Comments will also be accepted through the Federal eRulemaking Portal. Go to http://www.regulations.gov and follow the online instructions for submitting comments electronically.

All written comments will be open for public inspection at the office of the Food and Nutrition Service during regular business hours (8:30 a.m. to 5 p.m., Monday through Friday) at Room 1014, 3101 Park Center Drive, Alexandria, Virginia 22302.

All responses to this notice will be summarized and included in the request for Office of Management and Budget approval. All comments will also be a matter of public record.

FOR FURTHER INFORMATION CONTACT: Requests for additional information should be directed to Steven Carlson on 703-305-2017.

SUPPLEMENTARY INFORMATION: Title: Models of SNAP-Ed and Evaluation.

OMB Number: [not assigned].

Expiration Date: [not assigned].

Type of Request: New collection.

Abstract: The purposes of the Models of SNAP-Ed and Evaluation Study are to (1) demonstrate that nutrition education through SNAP can bring about meaningful behavioral change, and (2) show that nutrition education implementers can mount meaningful intervention outcome evaluations.

In fiscal year 2009, four nutrition education interventions were selected to participate as demonstration projects for this study. The four demonstration projects that will be approved under their States' Annual SNAP-Ed Plan are:

The University of Nevada at Reno's “All 4 Kids” intervention in Head Start Childcare Centers. FNS will employ an experimental evaluation design through which pre and post-intervention assessments will be conducted at 12 Head Start Centers with 6 serving as treatment sites and 6 as controls. Parents will be asked to report on the eating behaviors of their children. Additionally, educators at treatment sites will be interviewed for their impressions of the effectiveness of the intervention and their recommendations for improvement.

The Chickasaw Nation Nutrition Service “Eagle Play” intervention, tailored for Native American children. The FNS evaluation will use a quasi-experimental design in which 6 Pontotoc County, Oklahoma elementary schools will be demographically matched to the 6 schools selected to take part in the intervention. Pre and post-intervention assessments will be conducted at both treatment and control schools. Parents will be surveyed about the fruit and vegetable consumption of their children. Educators at treatment sites will be interviewed for their impressions of the effectiveness of the intervention and their recommendations for improvement.

The Pennsylvania State University's “Eating Competencies” web-based nutrition education intervention for SNAP eligible women, ages 18-45. Using a randomized control design, FNS will monitor the impact of the intervention on fruit and vegetable consumption as reported by participants and control subjects. The Pennsylvania State University nutrition educators will be informally interviewed for their impressions of the practicality of the intervention and their recommendations for improvement.

The New York State Department of Health's intervention, “Eat Well, Play Hard” in Child and Adult Care Food Program Centers. The quasi-experimental FNS evaluation will compare pre and post-intervention responses at 18 treatment and 18 control centers. Parents will be asked about the availability of fruits, vegetables and low-fat dairy at home, and their children's willingness to consume them. Educators and Dietitians at treatment sites will be interviewed for their impressions of the effectiveness of the intervention and their recommendations for improvement.

Affected Public: Individuals or Households and State, Local or Tribal Government: Respondent Type—Parents, educators and dietitians in New York State; and Parents and educators in Potontoc County, Oklahoma, and Clark County, Nevada. Low-income women, ages 18-45, and educators in Pennsylvania.

Estimated Number of Respondents: 5,489 (4,717 for parents; 772 for educators/dietitians). 600 parents of Head Start pre-school students and 80 educators in Clark County, Nevada; 1,377 parents of pre-K through 3rd grade children and 90 educators in Pontotoc County, Oklahoma; 580 women, ages 18-45, and 12 educators in Pennsylvania; 2,160 parents of 3-4 year old children and 590 educators and dietitians in New York Child and Adult Care Food Program centers.

See the table, below.

Estimated Number of Responses per Respondent: 2 for parents; 1 for educators/dietitians.

Estimated Total Annual Responses: 10,206.

Hours per Response: 0.25 for parents; 0.50 for educators/dietitians.

Estimated Total Annual Burden on Respondents: 2,744.50 (2,358.5 hours for parents; 386 for educators/dietitians).

Respondent | Estimated number of respondents | Responses annually per respondent | Total annual responses | Estimated avg. number of hours per response | Estimated total hours
Reporting Burden, University of Nevada at Reno, “All 4 Kids”
Parent survey | 600 | 2 | 1,200 | 0.25 | 300.00
Educator interviews | 80 | 1 | 80 | 0.50 | 40.00
Reporting Burden, Chickasaw Nation Nutrition Service, “Eagle Play”
Parent survey | 1,377 | 2 | 2,754 | 0.25 | 688.50
Educator interviews | 90 | 1 | 90 | 0.50 | 45.00
Reporting Burden, Pennsylvania State University, “Eating Competencies”
Participant survey | 580 | 2 | 1,160 | 0.25 | 290.00
Educator interviews | 12 | 1 | 12 | 0.50 | 6.00
Reporting Burden, New York State Dept. of Health, “Eat Well, Play Hard”
Parent survey | 2,160 | 2 | 4,320 | 0.25 | 1,080.00
Educator/Dietitian interviews | 590 | 1 | 590 | 0.50 | 295.00
Total Reporting Burden | 5,489 |  | 10,206 |  | 2,744.50

Dated: May 4, 2009.
E. Enrique Gomez,
Acting Administrator, Food and Nutrition Service.

[FR Doc. E9-10745 Filed 5-7-09; 8:45 am]

BILLING CODE 3410-30-P